FEDERAL COMMUNICATIONS COMMISSION

Federal Advisory Committee Act; Technological Advisory Council

AGENCY: Federal Communications Commission.

ACTION: Notice of public meeting.

SUMMARY: In accordance with the Federal Advisory Committee Act, this notice advises interested persons that the Federal Communications Commission's (FCC) Chairwoman Jessica Rosenworcel has appointed members to serve on the Technological Advisory Council (TAC) and will hold a meeting.

DATES: Tuesday, March 19th, 2024 in the Commission Meeting Room, beginning at 10 a.m., eastern time.

ADDRESSES: Federal Communications Commission, 45 L Street NE, Washington, DC 20554.

FOR FURTHER INFORMATION CONTACT: Martin Doczkat, Designated Federal Official, 202-418-2435; Martin.Doczkat@FCC.gov.

SUPPLEMENTARY INFORMATION: At the March 19th meeting, the FCC will attempt to accommodate as many people as possible. While the TAC meeting is open to the public, the FCC headquarters building is not open access, and all guests must check in with and be screened by FCC security at the main entrance. Attendees are not required to have an appointment, but must otherwise comply with protocols outlined at: https://www.fcc.gov/visit.

Meetings are also broadcast live with open captioning over the internet from the FCC Live web page at http://www.fcc.gov/live/. The public may submit written comments before the meeting to: Martin Doczkat, the FCC's Designated Federal Officer for Technological Advisory Council by email: Martin.Doczkat@fcc.gov or U.S. Postal Service Mail (Martin Doczkat, Federal Communications Commission, 45 L Street NE, Washington, DC 20554). Open captioning will be provided for this event. Other reasonable accommodations for people with disabilities are available upon request. Requests for such accommodations should be submitted via email to fcc504@fcc.gov or by calling the Office of Engineering and Technology at 202-418-2470 (voice), (202) 418-1944 (fax). Such requests should include a detailed description of the accommodation needed. In addition, please include your contact information. Please allow at least five days advance notice; last minute requests will be accepted, but may not be possible to fill.

Synopsis

The Public Notice serves as notice that, consistent with the Federal Advisory Committee Act, Federal Communications Commission (FCC or Commission) Chairwoman Jessica Rosenworcel has appointed members to serve on TAC. The TAC is comprised of a diverse group of leading technology experts. Dean Brenner, a former executive at Qualcomm, serves as Chairman of the Council. Martin Doczkat, Chief of the Electromagnetic Compatibility Division in the Office of Engineering and Technology, serves as the Designated Federal Officer. Sean Yun, Deputy Chief of the Electromagnetic Compatibility Division in the Office of Engineering and Technology, is the Alternate Designated Federal Officer.

Federal Communications Commission.
Ronald T. Repasi,
Chief, Office of Engineering and Technology.

[FR Doc. 2024-04975 Filed 3-7-24; 8:45 am]

BILLING CODE 6712-01-P